FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011279-023.

Title: Latin America Agreement.

Parties: Central America Discussion Agreement; Hispaniola Discussion Agreement; Caribbean Shipowners Association; Venezuelan Discussion Agreement; ABC Discussion Agreement; West Coast of South America Discussion Agreement; Inland Shipping Services Association; Montemar Maritima S.A.; and Zim Integrated Shipping Services, Ltd.

Filing Party: Wayne R. Rohde, Esq., Sher & Blackwell, LLP, 1850 M Street, NW., Suite 900, Washington, DC 20036.

Synopsis: The amendment deletes the Colombia Discussion Agreement as a party, updates the addresses and membership of other agreement parties, and updates the names of carriers.

Agreement No.: 011654-011.

Title: Middle East Indian Subcontinent Discussion Agreement.

Parties: American President Lines; A.P. Moller-Maersk A/S; CMA CGM SA; Contship Containerlines, a division of CP Ships (UK) Ltd.; P&O Nedlloyd Limited; The National Shipping Company of Saudi Arabia; United Arab Shipping Company (S.A.G.).

Filing Party: Wayne R. Rohde, Esq., Sher & Blackwell, LLP, 1850 M Street, NW., Suite 900, Washington, DC 20036.

Synopsis: The amendment adds a provision dealing with the liability for penalties.

Agreement No.: 011737-013.

Title: The MCA Agreement.

Parties: Atlantic Container Line AB; Alianca Navegacao e Logistica Ltda.; Antillean Marine Shipping Corporation; A.P. Moller-Maersk A/S; China Shipping Container Lines Co., Ltd.; CMA CGM S.A.; Companhia Libra de Navegacao; Compania Sud Americana de Vapores S.A.; CP Ships (UK) Limited d/b/a ANZDL and d/b/a Contship Containerlines; Crowley Liner Services, Inc.; Dole Ocean Cargo Express, Inc.; Great White Fleet (U.S.) Ltd.; Hamburg-Süd; Hapag-Lloyd Container Linie; HUAL AS; Italia di Navigazione S.p.A.; Lykes Lines Limited, LLC; Montemar Maritima S.A.; Norasia Container Line Limited; Safmarine Container Lines N.V.; TMM Lines Limited, LLC; Tropical Shipping & Construction Co., Ltd.; Wallenius Wilhelmsen Lines AS.

Filing Party: James R. Halley, Esq., Halley & Halley, P.A., 328 Crandon Boulevard, Suite 224-225, Key Biscayne, Florida 33149.

Synopsis: The amendment adds Antillean Marine Shipping Corporation as a party.

Agreement No.: 011819-001.

Title: Contship/CMA CGM-Hapag Lloyd Space Charter Agreement.

Parties: CMA CGM S.A.; Contship Containerlines (a division of CP Ships (UK) Limited); Hapag-Lloyd Container Linie GmbH.

Filing Party: Wayne R. Rohde, Esq., Sher & Blackwell, LLP, 1850 M Street, NW., Suite 900, Washington, DC 20036.

Synopsis: The amendment updates the addresses of two of the parties and changes the number of vessels used in the service.

Agreement No.: 011900.

Title: Westwood/Star Sailing and Space Charter Agreement.

Parties: Westwood Shipping Lines, Inc. and Star Shipping A.S.

Filing Party: Pamela J. Auerbach, Esq., Kirkland & Ellis LLP, 655 Fifteenth Street, NW., Washington, DC 20005.

Synopsis: The proposed agreement would authorize the parties to operate a service and share space in the trade between the U.S. and Canadian Pacific Coasts and ports in Japan, Korea, and China.

Agreement No.: 011901.

Title: Zim/CSCL Vessel Sharing Agreement.

Parties: China Shipping Container Line Co., Ltd. and Zim Integrated Shipping Services, Ltd.

Filing Party: Wayne R. Rohde, Esq., Sher & Blackwell, LLP, 1850 M Street, NW., Suite 900, Washington, DC 20036.

Synopsis: The proposed agreement would permit the parties to operate a service between the U.S. West Coast and ports on the Adriatic and Mediterranean Seas and in Sri Lanka and Far East. The parties request expedited review.

Agreement No.: 011902.

Title: Maersk Sealand/CSAV Space Charter Agreement.

Parties: A.P. Moller Maersk A/S and Compania Sud Americana de Vapores S.A.

Filing Party: Wayne R. Rohde, Esq., Sher & Blackwell, LLP, 1850 M Street, NW., Suite 900, Washington, DC 20036.

Synopsis: The agreement authorizes Maersk Sealand to charter space to CSAV on vessels operated by Maersk Sealand in the trade between the U.S. East Coast and Brazil and Uruguay.

Dated: February 11, 2005.
By Order of the Federal Maritime Commission.
Bryant L. VanBrakle,
Secretary.

[FR Doc. 05-2998 Filed 2-15-05; 8:45 am]

BILLING CODE 6730-01-P